DEPARTMENT OF TRANSPORTATION

Federal Aviation Administration

14 CFR Part 39

[Docket No. FAA-2019-0526; Product Identifier 2019-NM-023-AD; Amendment 39-19841; AD 2020-03-17]

RIN 2120-AA64

Airworthiness Directives; Bombardier, Inc., Airplanes

AGENCY: Federal Aviation Administration (FAA), Department of Transportation (DOT).

ACTION: Final rule.

SUMMARY: The FAA superseding Airworthiness Directive (AD) 2015-24-04, which applied to certain Bombardier, Inc., Model CL-600-2B19 (Regional Jet Series 100 & 440) airplanes, Model CL-600-2C10 (Regional Jet Series 700, 701, & 702) airplanes, Model CL-600-2D15 (Regional Jet Series 705) airplanes, Model CL-600-2D24 (Regional Jet Series 900) airplanes, and Model CL-600-2E25 (Regional Jet Series 1000) airplanes. AD 2015-24-04 required repetitive inspections of the cage assembly for damaged or detached window louver panel assemblies (WLPAs) and blowout panels (BOPs), and corrective actions if necessary. This AD requires one-time inspections of the WLPAs and BOPs, corrective actions if necessary, and a revision of the existing maintenance or inspection program, as applicable, to incorporate new airworthiness limitations, which would terminate the inspection requirement. This AD was prompted by a determination that new airworthiness limitations, as well as additional actions, are necessary to address the unsafe condition. The FAA is issuing this AD to address the unsafe condition on these products.

DATES: This AD is effective April 2, 2020.

The Director of the Federal Register approved the incorporation by reference of certain publications listed in this AD as of April 2, 2020.

ADDRESSES: For service information identified in this final rule, contact Bombardier, Inc., 400 Côte-Vertu Road West, Dorval, Québec H4S 1Y9, Canada; Widebody Customer Response Center North America toll-free telephone 1-866-538-1247 or direct-dial telephone 1-514-855-2999; fax 514-855-7401; email ac.yul@aero.bombardier.com; internet http://www.bombardier.com. You may view this referenced service information at the FAA, Transport Standards Branch, 2200 South 216th St., Des Moines, WA. For information on the availability of this material at the FAA, call 206-231-3195. It is also available on the internet at https://www.regulations.gov by searching for and locating Docket No. FAA-2019-0526.

Examining the AD Docket

You may examine the AD docket on the internet at https://www.regulations.gov by searching for and locating Docket No. FAA-2019-0526; or in person at Docket Operations between 9 a.m. and 5 p.m., Monday through Friday, except Federal holidays. The AD docket contains this final rule, the regulatory evaluation, any comments received, and other information. The address for Docket Operations is U.S. Department of Transportation, Docket Operations, M-30, West Building Ground Floor, Room W12-140, 1200 New Jersey Avenue SE, Washington, DC 20590.

FOR FURTHER INFORMATION CONTACT: Darren Gassetto, Aerospace Engineer, Mechanical Systems and Administrative Services Section, FAA, New York ACO Branch, 1600 Stewart Avenue, Suite 410, Westbury, NY 11590; telephone 516-228-7323; fax 516-794-5531; email 9-avs-nyaco-cos@faa.gov.

SUPPLEMENTARY INFORMATION:

Discussion

Transport Canada Civil Aviation (TCCA), which is the aviation authority for Canada, has issued Canadian AD CF-2015-28R2, dated February 4, 2019 (referred to as the Mandatory Continuing Airworthiness Information, or “the MCAI”), to correct an unsafe condition for certain Bombardier, Inc., Model CL-600-2B19 (Regional Jet Series 100 & 440) airplanes, Model CL-600-2C10 (Regional Jet Series 700, 701, & 702) airplanes, Model CL-600-2D15 (Regional Jet Series 705) airplanes, Model CL-600-2D24 (Regional Jet Series 900) airplanes, and Model CL-600-2E25 (Regional Jet Series 1000) airplanes. You may examine the MCAI in the AD docket on the internet at https://www.regulations.gov by searching for and locating Docket No. FAA-2019-0526.

The FAA issued a notice of proposed rulemaking (NPRM) to amend 14 CFR part 39 to supersede AD 2015-24-04, Amendment 39-18336 (80 FR 74673, November 30, 2015) (“AD 2015-24-04”). AD 2015-24-04 applied to certain Bombardier, Inc., Model CL-600-2B19 (Regional Jet Series 100 & 440) airplanes, Model CL-600-2C10 (Regional Jet Series 700, 701, & 702) airplanes, Model CL-600-2D15 (Regional Jet Series 705) airplanes, Model CL-600-2D24 (Regional Jet Series 900) airplanes, and Model CL-600-2E25 (Regional Jet Series 1000) airplanes. The NPRM published in the Federal Register on September 20, 2019 (84 FR 49484). The NPRM was prompted by a determination that new airworthiness limitations, as well as additional actions, are necessary to address the unsafe condition. The NPRM proposed to require one-time inspections of the WLPAs and BOPs, corrective actions if necessary, and a revision of the existing maintenance or inspection program, as applicable, to incorporate new airworthiness limitations, which would terminate the inspection requirement. The FAA is issuing this AD to address damaged or detached WLPAs and BOPs, which could delay smoke detection in the cargo compartment in the event of a fire and result in an uncontrolled fire in the cargo compartment. See the MCAI for additional background information.

Action Since the NPRM Was Issued

Since the NPRM was issued, the FAA has determined that the applicability identified in paragraph (c) of this AD needs to be revised to better identify the affected airplanes. Therefore, the FAA has revised paragraph (c) of this AD to add that affected airplanes have a Class C cargo compartment configuration, which matches the applicability in the MCAI. This revision does not change the number of affected airplanes of U.S. registry.

Comments

The FAA gave the public the opportunity to participate in developing this final rule. The following presents the comments received on the NPRM and the FAA's response to the comments.

Support for the NPRM

The Air Line Pilots Association, International indicated its support for the NPRM.

Request for Clarification of Global Alternative Method of Compliance (AMOC)

Air Wisconsin Airlines requested clarification that the content and intent of Global AMOC 2015-24-04, Log #19-02, dated February 13, 2019, is acceptable for the repetitive inspections specified in the proposed AD. Air Wisconsin stated that the section of the global AMOC which states, in part, “Operators shall perform the initial inspection and phase-in schedule per SB 601R-25-201 and SB 670BA-25-100, as mandated by AD and continue with the instructions as per published airplane maintenance manual (AMM) tasks . . .” which are “. . . AMM Task 25-50-00-220-801 and AMM Task 25-50-00-220-803, in lieu of the accomplishment instructions specified in SB 601R-25-201 and SB 670BA-25-100.” Air Wisconsin concluded that paragraph (j) of the proposed AD does not indicate any previously approved AMOCs are acceptable, or specify the method of compliance for repetitive inspections, although implied through the required implementation of Certification Maintenance Requirements (CMR) Task C26-25-115-01 and Maintenance Review Manual (MRM) Task 255000-208.

The FAA acknowledges the commenter's concern and provides the following clarification. Global AMOC 2015-24-04, Log #19-02, dated February 13, 2019, was issued specifically for the actions required by AD 2015-24-04, which is superseded by this final rule. This AD already incorporates CMR Task C26-25-115-01, as specified in Bombardier CL-600-2B19 Temporary Revision (TR) 2A-69, dated August 30, 2018 (required by paragraph (g)(2) of this AD), and MRM Task 255000-208, as specified in CRJ Series Regional Jet (Bombardier) TR MRB-0079, dated May 29, 2017 (required by paragraph (h)(2) of this AD). Accomplishing the actions required by paragraphs (g)(2) and (h)(2) of this AD terminates the repetitive inspections specified in paragraphs (g)(1) and (h)(1) of this AD, which require the inspections be done in accordance with Bombardier Service Bulletins 601R-25-201 and 670BA-25-100, both Revision C, both dated May 11, 2017. Therefore, this AD has not been changed in this regard.

Conclusion

The FAA reviewed the relevant data, considered the comment received, and determined that air safety and the public interest require adopting this final rule with the change described previously and minor editorial changes. The FAA has determined that these minor changes:

• Are consistent with the intent that was proposed in the NPRM for addressing the unsafe condition; and

• Do not add any additional burden upon the public than was already proposed in the NPRM.

The FAA also determined that these changes will not increase the economic burden on any operator or increase the scope of this final rule.

Related Service Information Under 1 CFR Part 51

Bombardier has issued the following service information:

• Bombardier Service Bulletin 601R-25-201, Revision C, dated May 11, 2017.

• Bombardier Service Bulletin 670BA-25-100, Revision C, dated May 11, 2017.

This service information describes procedures for repetitive detailed inspections for damage of the cage assembly, WLPAs, and BOPs, and repair or replacement of damaged parts. These documents are unique since they apply to different airplane models.

Bombardier has also issued the following service information:

• Bombardier CL-600-2B19 Temporary Revision (TR) 2A-69, dated August 30, 2018.

• CRJ Series Regional Jet (Bombardier) TR MRB-0079, dated May 29, 2017.

This service information describes an airworthiness limitation task for a detailed inspection of the aft cargo compartment WLPAs and BOPs. These TRs are unique since they apply to different airplane models.

This service information is reasonably available because the interested parties have access to it through their normal course of business or by the means identified in the ADDRESSES section.

Costs of Compliance

The FAA estimates that this AD affects 1,008 airplanes of U.S. registry. The FAA estimates the following costs to comply with this AD:

Estimated Costs for Required Actions *
Action | Labor cost | Parts cost | Cost per product | Cost on U.S. operators
Retained Inspections from AD 2015-24-04 | 2 work-hours × $85 per hour = $170 | $0 | $170 | $171,360
* Table does not include estimated costs for revising the maintenance or inspection program.

The FAA has determined that revising the maintenance or inspection program takes an average of 90 work-hours per operator, although the agency recognizes that this number may vary from operator to operator. In the past, the FAA has estimated that this action takes 1 work-hour per airplane. Since operators incorporate maintenance or inspection program changes for their affected fleet(s), the FAA has determined that a per-operator estimate is more accurate than a per-airplane estimate. Therefore, the FAA estimates the total cost per operator to be $7,650 (90 work-hours × $85 per work-hour).

The FAA has received no definitive data that would enable the agency to provide cost estimates for the on-condition actions specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2015-24-04, Amendment 39-18336 (80 FR 74673, November 30, 2015), and adding the following new AD:

2020-03-17 Bombardier, Inc.: Amendment 39-19841; Docket No. FAA-2019-0526; Product Identifier 2019-NM-023-AD.

(a) Effective Date

This AD is effective April 2, 2020.

(b) Affected ADs

This AD replaces AD 2015-24-04, Amendment 39-18336 (80 FR 74673, November 30, 2015) (“AD 2015-24-04”).

(c) Applicability

This AD applies to the Bombardier, Inc., airplanes, certificated in any category, identified in paragraphs (c)(1) through (4) of this AD, with a Class C cargo compartment configuration.

(1) Model CL-600-2B19 (Regional Jet Series 100 & 440) airplanes, serial numbers 7003 and subsequent.

(2) Model CL-600-2C10 (Regional Jet Series 700, 701, & 702) airplanes, serial numbers 10002 and subsequent.

(3) Model CL-600-2D15 (Regional Jet Series 705) airplanes and Model CL-600-2D24 (Regional Jet Series 900) airplanes, serial numbers 15001 and subsequent.

(4) Model CL-600-2E25 (Regional Jet Series 1000) airplanes, serial numbers 19001 and subsequent.

(d) Subject

Air Transport Association (ATA) of America Code 25, Equipment/Furnishings.

(e) Reason

This AD was prompted by reports of damaged decompression window louver panel assemblies (WLPAs), and detached blowout panels (BOPs). The FAA is issuing this AD to address damaged or detached WLPAs and BOPs. A detached WLPA or BOP could delay smoke detection in the cargo compartment in the event of a fire, and could result in an uncontrolled fire in the cargo compartment.

(f) Compliance

Comply with this AD within the compliance times specified, unless already done.

(g) Inspections, Corrective Action, and Terminating Action for Model CL-600-2B19 Airplanes

(1) At the applicable time specified in paragraph (g)(1)(i) or (ii) of this AD: Do detailed inspections for damaged or detached WLPAs, and do all applicable corrective actions before further flight, in accordance with the Accomplishment Instructions of Bombardier Service Bulletin 601R-25-201, Revision C, dated May 11, 2017.

(i) For airplanes with the accumulation of 780 total flight hours or more as of December 15, 2015 (the effective date of AD 2015-24-04): Inspect within 100 flight hours after December 15, 2015.

(ii) For airplanes that have accumulated less than 780 total flight hours as of December 15, 2015 (the effective date of AD 2015-24-04): Inspect before accumulating 880 total flight hours after December 15, 2015.

(2) Within 30 days after the effective date of this AD, revise the existing maintenance or inspection program, as applicable, to incorporate the information specified in Task C26-25-115-01, “Detailed Inspection of the Window Louver Panel Assembly (WLPA) in Aft Cabin/Cargo Compartment Bulkhead,” provided in Bombardier CL-600-2B19 Temporary Revision (TR) 2A-69, dated August 30, 2018 (which is a TR to Appendix A—Certification Maintenance Requirements (CMR), of Part 2 of the Bombardier CL-600-2B19 Maintenance Requirements Manual (MRM), CSP-A-053). The initial compliance time for accomplishing the task is within 880 flight hours from the last inspection performed as specified in Bombardier Service Bulletin 601R-25-201, Revision C, dated May 11, 2017. Accomplishing the actions required by this paragraph terminates the inspection requirement in paragraph (g)(1) of this AD.

(h) Inspections, Corrective Action, and Terminating Action for Model CL-600-2C10, CL-600-2D15, CL-600-2D24, and CL-600-2E25 Airplanes

(1) At the applicable time specified in paragraph (h)(1)(i) or (ii) of this AD: Do detailed inspections for damaged or detached WLPAs and BOPs, and do all applicable corrective actions before further flight, in accordance with the Accomplishment Instructions of Bombardier Service Bulletin 670BA-25-100, Revision C, dated May 11, 2017.

(i) For airplanes with the accumulation of 780 total flight hours or more as of December 15, 2015 (the effective date of AD 2015-24-04): Inspect within 100 flight hours after December 15, 2015.

(ii) For airplanes that have accumulated less than 780 total flight hours as of December 15, 2015 (the effective date of AD 2015-24-04): Inspect before accumulating 880 total flight hours after December 15, 2015.

(2) Within 30 days after the effective date of this AD, revise the existing maintenance or inspection program, as applicable, to incorporate the information specified in Task 255000-208, “Detailed Inspection of the Aft Cargo Compartment Window-Louver Panel Assembly and Blowout Panels Along with Their Respective Cage Assemblies,” as specified in CRJ Series Regional Jet (Bombardier) TR MRB-0079, dated May 29, 2017 (which is a TR to Part 1 of the Bombardier CRJ Series Regional Jet MRM, CSP B-053). The initial compliance time for accomplishing the task is within 880 flight hours from the last inspection performed in accordance with Bombardier Service Bulletin 670BA-25-100, Revision C, dated May 11, 2017. Accomplishing the actions required by this paragraph terminates the inspection requirement in paragraph (h)(1) of this AD.

(i) Credit for Previous Actions

(1) This paragraph provides credit for actions required by paragraph (g)(1) of this AD, if those actions were performed before the effective date of this AD using the service information identified in paragraphs (i)(1)(i) through (iii) of this AD.

(i) Bombardier Service Bulletin 601R-25-201, dated July 21, 2015, which was incorporated by reference in AD 2015-24-04, Amendment 39-18336 (80 FR 74673, November 30, 2015).

(ii) Bombardier Service Bulletin 601R-25-201, Revision A, dated October 21, 2015, which is not incorporated by reference in this AD.

(iii) Bombardier Service Bulletin 601R-25-201, Revision B, dated February 2, 2016, which is not incorporated by reference in this AD.

(2) This paragraph provides credit for actions required by paragraph (h)(1) of this AD, if those actions were performed before the effective date of this AD using the service information identified in paragraphs (i)(2)(i) through (iii) of this AD.

(i) Bombardier Service Bulletin 670BA-25-100, dated July 21, 2015, which was incorporated by reference in AD 2015-24-04, Amendment 39-18336 (80 FR 74673, November 30, 2015).

(ii) Bombardier Service Bulletin 670BA-25-100, Revision A, dated October 21, 2015, which is not incorporated by reference in this AD.

(iii) Bombardier Service Bulletin 670BA-25-100, Revision B, dated February 2, 2016, which is not incorporated by reference in this AD.

(j) Other FAA AD Provisions

(1) Alternative Methods of Compliance (AMOCs): The Manager, New York ACO Branch, FAA, has the authority to approve AMOCs for this AD, if requested using the procedures found in 14 CFR 39.19. In accordance with 14 CFR 39.19, send your request to your principal inspector or local Flight Standards District Office, as appropriate. If sending information directly to the manager of the certification office, send it to ATTN: Program Manager, Continuing Operational Safety, FAA, New York ACO Branch, 1600 Stewart Avenue, Suite 410, Westbury, NY 11590; telephone 516-228-7300; fax 516-794-5531.

(2) Contacting the Manufacturer: For any requirement in this AD to obtain corrective actions from a manufacturer, the action must be accomplished using a method approved by the Manager, New York ACO Branch, FAA; or Transport Canada Civil Aviation (TCCA); or Bombardier, Inc.'s TCCA Design Approval Organization (DAO). If approved by the DAO, the approval must include the DAO-authorized signature.

(k) Related Information

(1) Refer to Mandatory Continuing Airworthiness Information (MCAI) Canadian AD CF-2015-28R2, dated February 4, 2019; for related information. This MCAI may be found in the AD docket on the internet at https://www.regulations.gov by searching for and locating Docket No. FAA-2019-0526.

(2) For more information about this AD, contact Darren Gassetto, Aerospace Engineer, Mechanical Systems and Administrative Services Section, FAA, New York ACO Branch, 1600 Stewart Avenue, Suite 410, Westbury, NY 11590; telephone 516-228-7323; fax 516-794-5531; email 9-avs-nyaco-cos@faa.gov.

(3) Service information identified in this AD that is not incorporated by reference is available at the addresses specified in paragraphs (l)(3) and (4) of this AD.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Bombardier Service Bulletin 601R-25-201, Revision C, dated May 11, 2017.

(ii) Bombardier Service Bulletin 670BA-25-100, Revision C, dated May 11, 2017.

(iii) Bombardier CL-600-2B19 Temporary Revision 2A-69, dated August 30, 2018.

(iv) CRJ Series Regional Jet (Bombardier) Temporary Revision MRB-0079, dated May 29, 2017.

(3) For service information identified in this AD, contact Bombardier, Inc., 400 Côte-Vertu Road West, Dorval, Québec H4S 1Y9, Canada; Widebody Customer Response Center North America toll-free telephone 1-866-538-1247 or direct-dial telephone 1-514-855-2999; fax 514-855-7401; email ac.yul@aero.bombardier.com; internet http://www.bombardier.com.

(4) You may view this service information at the FAA, Transport Standards Branch, 2200 South 216th St., Des Moines, WA. For information on the availability of this material at the FAA, call 206-231-3195.

(5) You may view this service information that is incorporated by reference at the National Archives and Records Administration (NARA). For information on the availability of this material at NARA, email fedreg.legal@nara.gov, or go to: https://www.archives.gov/federal-register/cfr/ibr-locations.html.

Issued on February 12, 2020.
Lance T. Gant,
Director, Compliance & Airworthiness Division, Aircraft Certification Service.

[FR Doc. 2020-03967 Filed 2-26-20; 8:45 am]

BILLING CODE 4910-13-P